OFFICE OF THE UNITED STATES TRADE REPRESENTATIVE

Request for the Office of Management and Budget To Provide Emergency Clearance of a New Collection of Information Titled `Large Civil Aircraft Dispute Portal'

AGENCY: Office of the United States Trade Representative.

ACTION: Notice of a request for emergency clearance of an information collection and a request for comments.

SUMMARY: The Office of the United States Trade Representative (USTR) is submitting a request to the Office of Management and Budget (OMB) for emergency review and clearance of a new information collection request (ICR) titled Large Civil Aircraft Dispute Portal under the Paperwork Reduction Act of 1995 (PRA) and its implementing regulations.

DATES: Submit comments no later than June 9, 2020.

ADDRESSES: Submit comments about the ICR, including the title Large Civil Aircraft Dispute Portal, to www.reginfo.gov/public/do/PRAMain. Find this ICR by selecting `Currently under Review—Open for Public Comments' or by using the search function.

FOR FURTHER INFORMATION CONTACT: USTR Associate General Counsel Megan Grimball at (202) 395-5725.

SUPPLEMENTARY INFORMATION:

A. Comments

Submit written comments and suggestions to OMB addressing one or more of the following four points:

(1) Whether the ICR is necessary for the proper performance of USTR's functions, including whether the information will have practical utility.

(2) The accuracy of USTR's estimate of the burden of the ICR, including the validity of the methodology and assumptions used.

(3) Ways to enhance the quality, utility, and clarity of the ICR.

(4) Ways to minimize the burden of the ICR on those who are to respond, including through the use of appropriate automated, electronic, mechanical, or other technological collection techniques or other forms of information technology.

B. Overview of This Information Collection

Title: Large Civil Aircraft Dispute Portal.

OMB Control Number: N/A.

Form Number(s): Large Civil Aircraft Dispute (LCA) Form.

Description: Following an investigation, and nearly 15 years of litigation, the U.S. Trade Representative determined that the European Union (EU) and certain member States or former member States denied U.S. rights under the World Trade Organization (WTO) Agreement and failed to implement WTO Dispute Settlement Body recommendations concerning certain subsidies to the EU large civil aircraft industry. Pursuant to sections 301(a), 301(c), 304(a)(1)(B), and 306(b) of the Trade Act of 1974 (Trade Act) (19 U.S.C. 2411(a), 2411(c), 2414(a)(1)(B), and 2416(b)), the U.S. Trade Representative determined to take action in the form of additional duties on products of certain EU member States, at levels of 10 or 25 percent ad valorem, as specified in the list of products included in Annex A of the October 9 notice, effective October 18, 2019 (retaliation list). See 84 FR 54245 (October 9, 2019).

You can find background on the proceedings in this investigation in prior notices including 84 FR 15028 (April 12, 2019), 84 FR 32248 (July 5, 2019), 84 FR 54245 (October 9, 2019), 84 FR 55998 (October 18, 2019), 84 FR 67992 (December 12, 2019), 85 FR 10204 (February 21, 2020), and 85 FR 14517 (March 12, 2020).

Section 306(b)(2)(B) of the Trade Act requires the U.S. Trade Representative to revise the retaliation list unless certain conditions are met. Under section 306(c), the U.S. Trade Representative must make revisions 120 days after he took action, and every 180 days thereafter unless certain conditions are met. Before making revisions, section 306(d) requires the U.S Trade Representative to seek public comments.

The U.S. Trade Representative announced the beginning of the 120-day review of the action on December 12, 2019. See 84 FR 67992 (December 12 notice). The December 12 notice specifically requested public comments on:

• Whether the U.S. Trade Representative should remove products of specific EU member States from the list of products subject to additional duties or should remain on the list.

• if a product remains on the list, whether the U.S. Trade Representative increase the current rate of additional duty to as high as 100 percent.

• whether the U.S. Trade Representative should add additional EU products to the list. USTR received nearly 26,000 comments in response to the December 12 notice. The U.S. Trade Representative announced certain revisions to the action being taken in the investigation on February 14, 2020. See 85 FR 10204 (February 21, 2020), and 85 FR 14517 (March 12, 2020).

Unless certain statutory conditions are met, the next 180-day revision is required on or about August 12, 2020. USTR anticipates receiving at least as many public comments as it received in response to the initial 120-day review. To assist in timely and comprehensive review and public availability of comments in response to notices of periodic revisions, USTR is establishing the Large Civil Aircraft Dispute Portal and requiring use of the LCA Form attached to this notice. In compliance with statutory requirements, USTR anticipates that it will begin accepting comments regarding the next possible revision around June 23, 2020. USTR will ask the public to provide comments on the same issues described in the December 12 notice.

Affected Public: Those interested in commenting on whether certain products of EU member States (or former member States) classified in certain enumerated subheadings of the Harmonized Tariff Schedule of the United States should be subject to additional duties of up to 100 percent.

Frequency of Submission: One submission per periodic revision notice.

Respondent Universe: Same as `Affected Public.'

Reporting Burden:

Total Estimated Responses: 25,000 comments in response to each periodic revision notice.

Total Estimated Annual Burden: USTR estimates that the average time to prepare and submit a comment regarding whether a particular product should be subject to additional duties will take approximately 120 minutes and will cost about $200 per submission. The burden estimate includes all costs to prepare and submit a comment. The total time burden for comments is 50,000 hours, and the estimated total cost is $5,000,000.

Status: Emergency review. Pursuant to 5 CFR 1320.13, USTR is requesting emergency processing for this ICR because it cannot reasonably comply with normal clearance procedures. USTR carefully evaluated the cost and complexity of establishing its own portal to receive and evaluate public comments based on the level of public interest in response to the first revision notice, the difficulties in processing the comments using Regulations.gov, and USTR's experience in handling a large volume of public input in connection with the Section 301 Portal. USTR made the determination to move forward with the Large Civil Aircraft Dispute Portal as quickly as possible in advance of the expected next revision round. To meet the statutory schedule for revisions, USTR must open the Large Civil Aircraft Dispute Portal on or about June 23, 2020. Upon OMB approval of this emergency clearance request, USTR will follow the normal clearance procedures for the ICR.

Janice Kaye,
Chief Counsel for Administrative Law.

[FR Doc. 2020-11430 Filed 5-22-20; 4:15 pm]

BILLING CODE 3290-F0-P